DEPARTMENT OF COMMERCE

International Trade Administration

[A-588-852]

Notice of Preliminary Results of Antidumping Duty Changed Circumstances Review: Structural Steel Beams from Japan

AGENCY: Import Administration, International Trade Administration, U.S. Department of Commerce.

ACTION: Notice of Preliminary Results of Antidumping Duty Changed Circumstances Review.

SUMMARY: On December 30, 2003, the Department of Commerce (“Department”) published a notice of initiation of changed circumstances review of the antidumping duty order on structural steel beams (“SSB”) from Japan to determine whether Yamato Steel Co., Ltd. (“Yamato Steel”) is a successor-in-interest company to Yamato Kogyo Co., Ltd. (“Yamato Kogyo”) for purposes of determining antidumping and countervailing duty liabilities. See Notice of Initiation of Antidumping Duty Changed Circumstances Review: Structural Steel Beams from Japan, 68 FR 75213 (December 30, 2003) (“Notice of Initiation”). We have preliminarily determined that Yamato Steel is the successor-in-interest to Yamato Kogyo, for purposes of determining antidumping duty liability in this proceeding. Interested parties are invited to comment on these preliminary results.

EFFECTIVE DATE: May 14, 2004.

FOR FURTHER INFORMATION CONTACT: Melissa Blackledge or Howard Smith, Import Administration, International Trade Administration, U.S. Department of Commerce, 14th Street and Constitution Avenue, N.W., Washington, D.C. 20230; telephone (202) 482-3518 or (202) 482-5193, respectively.

SUPPLEMENTARY INFORMATION:

Background

On June 19, 2000, the Department published in the Federal Register an antidumping duty order resulting from the Department's investigation of Structural Steel Beams from Japan. See Structural Steel Beams from Japan: Notice of Antidumping Duty Order, 65 FR 37960 (June 19, 2000). On November 17, 2003, Yamato Kogyo and Yamato Steel submitted a request that the Department initiate a changed circumstances review of the antidumping duty order on structural steel beams from Japan pursuant to Section 751(b)(1) of the Trade Act of 1930, as amended (“the Act”), and 19 CFR 351.22(c)(3)(ii) (2003). Yamato Steel claims to be the successor-in-interest to Yamato Kogyo, and, as such, claims that it is entitled to receive the same antidumping treatment as Yamato Kogyo. On December 19, 2003, the Department published a Notice of Initiation of Changed Circumstances Review, 68 FR 75213. On February 26, 2004, the Department issued a questionnaire requesting further details on the successorship of Yamato Steel. Yamato Kogyo's response was received by the Department on March 26, 2004.

Scope of the Review

For purposes of this review, the products covered are doubly-symmetric shapes, whether hot or cold-rolled, drawn, extruded, formed or finished, having at least one dimension of at least 80 mm (3.2 inches or more), whether of carbon or alloy (other than stainless) steel, and whether or not drilled, punched, notched, painted, coated, or clad. These products (“Structural Steel Beams”) include, but are not limited to, wide-flange beams (“W” shapes), bearing piles (“HP” shapes), standard beams (“S” or “I” shapes), and M-shapes.

All products that meet the physical and metallurgical descriptions provided above are within the scope of this review unless otherwise excluded. The following products, are outside and/or specifically excluded from the scope of this review:

Structural steel beams greater than 400 pounds per linear foot or with a web or section height (also known as depth) over 40 inches.

The merchandise subject to this review is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and U.S. Customs and Border Protection (“CBP”) purposes, the written description of the merchandise under review is dispositive.

Preliminary Results of the Review

In submissions to the Department dated November 17, 2003 and March 26, 2004, Yamato Kogyo advised the Department that the firm had conducted a corporate reorganization, resulting in the formation of Yamato Steel which assumed all steel and heavy industry operations formerly held by Yamato Kogyo.

In antidumping duty changed circumstances reviews involving a successor-in- interest determination, the Department typically examines several factors including, but not limited to, changes in: (1) management; (2) production facilities; (3) supplier relationships; and (4) customer base. See Brass Sheet and Strip from Canada: Notice of Final Results of Antidumping Administrative Review, 57 FR 20460, 20462 (May 13, 1992) (“Canada Brass”). While no single factor or combination of factors will necessarily be dispositive, the Department generally will consider the new company to be the successor to the predecessor company if the resulting operations are essentially the same as those of the predecessor company. See, e.g., Industrial Phosphoric Acid from Israel: Final Results of Changed Circumstances Review, 59 FR 6944, 6945 (February 14, 1994), and Canada Brass, 57 FR 20462. Thus, if the record evidence demonstrates that, with respect to the production and sale of the subject merchandise, the new company operates as the same business entity as the predecessor company, the Department may assign the new company the cash deposit rate of its predecessor. See, e.g., Fresh and Chilled Atlantic Salmon from Norway: Final Results of Changes Circumstances Antidumping Duty Administrative Review, 64 FR 9979, 9980 (March 1, 1999).

Our review of the evidence provided by Yamato Kogyo and Yamato Steel indicates, preliminarily, that the change in ownership has not significantly changed the company's management, production facilities, supplier relationships or customer base.

Yamato Kogyo and Yamato Steel provided detailed organizational charts and lists of directors both prior to and following the creation of Yamato Steel. See Yamato Kogyo Co., Ltd. and Yamato Stel Co., Ltd. submission dated March 26, 2004, at Exhibits A, C, D, E and F. These organizational charts and lists of directors establish that the management and organizational structure of Yamato Steel is substantially the same as that of Yamato Kogyo. Yamato also provided the Modification and Transfer Registration that was filed with the Himeji City Tax Office, which documented the establishment of Yamato Steel, the acquisition by Yamato Steel of all tangible fixed assets, and that Yamato Kogyo is the parent of Yamato Steel. See Ibid. at Exhibit H. This was further corroborated by the internal Asset Value Summary of the assets transferred from Yamato Kogyo to Yamato Steel. See Ibid. at Exhibit I. This documentation of the establishment of Yamato Steel and transfer of fixed assets provides evidence of Yamato Steel's use of the production facilities formerly used by Yamato Kogyo in the production of subject merchandise. Yamato Steel's supplier relationships are reflective of those of the former Yamato Kogyo, as illustrated by the supplier lists, derived from the respective firms' accounts payable, provided by Yamato Kogyo and Yamato Steel. See Ibid. at Exhibits J and K. Finally, Yamato Kogyo and Yamato Steel provided the customer lists of both the former Yamato Kogyo and the new Yamato Steel, which, while not identical, are sufficiently similar to show no significant change in the customer base. See Ibid. at Exhibits J and K.

In sum, Yamato Steel has presented evidence to establish a prima facie case of its successorship status. Yamato Steel's establishment by Yamato Kogyo has precipitated minimal changes to the original Yamato Kogyo corporate structure as it applies to the production of subject merchandise. Yamato Steel's management, production facilities, supplier relationships, sales facilities and customer base are essentially unchanged from those of Yamato Kogyo's. Therefore, the record evidence demonstrates that the new entity essentially operates in the same manner as the predecessor company. Consequently, we preliminarily determine that Yamato Steel should be given the same antidumping duty treatment as Yamato Kogyo, i.e., zero percent antidumping duty cash deposit rate.

If the above preliminary determination results are affirmed in the Department's final results, the cash deposit determination from this changed circumstances review will apply to all entries of the subject merchandise entered, or withdrawn from warehouse, for consumption on or after the date of publication of the final results of this changed circumstances review. See Granular Polytetrafluoroethylene Resin from Italy; Final Results of Antidumping Duty Changed Circumstances Review, 68 FR 25327 (May 12, 2003). This deposit rate shall remain in effect until publication of the final results of the next administrative review in which Yamato Steel participates.

Public Comment

Any interested party may request a hearing within 30 days of publication of this notice. 19 CFR 351.310(c). Any hearing, if requested, will be held 44 days after the date of publication of this notice, or the first working day thereafter. Interested parties may submit case briefs and/or written comments not later than 30 days after the date of publication of this notice. 19 CFR 351.309(c)(ii). Rebuttal briefs, which must be limited to issues raised in such briefs or comments, may be filed not later than 37 days after the date of publication of this notice. See 19 CFR 351.309(d). Parties who submit arguments are requested to submit with the argument (1) a statement of the issue, (2) a brief summary of the argument, and (3) a table of authorities. Consistent with section 351.216(e) of the Department's regulations, we will issue the final results of this changed circumstances review no later than 270 days after the date on which this review was initiated.

This notice is in accordance with sections 751(b) and 777(i)(1) of the Act, and section 351.221(c)(3)(i) of the Department's regulations.

Dated: May 10, 2004.
James J. Jochum,
Assistant Secretary for Import Administration.

[FR Doc. 04-11014 Filed 5-13-04; 8:45 am]

BILLING CODE 3510-DS-S